DEPARTMENT OF EDUCATION

Office of Elementary and Secondary Education; Overview Information; Migrant Education Even Start Family Literacy Program; Notice Inviting Applications for New Awards for Fiscal Years (FYs) 2003 and 2004

Catalog of Federal Domestic Assistance (CFDA) Number: 84.214A

Dates: Applications Available: April 6, 2004.

Deadline for Transmittal of Applications: May 21, 2004.

Deadline for Intergovernmental Review: July 20, 2004.

Eligible Applicants: Any entity is eligible to apply for a grant under the Migrant Education Even Start (MEES) Family Literacy program. For example, the following types of entities are eligible to apply: State educational agencies (SEAs) that administer migrant education programs; local educational agencies (LEAs) that have a high percentage of migratory students; non-profit community-based organizations that work with migratory families; and faith-based organizations.

Estimated Available Funds: $4,500,000. This is the combined estimate from both FY 2003 and FY 2004 funds. We are inviting applications at this time for new awards for both FY 2003 and for FY 2004 to make the most efficient use of competition resources. The Department may use the funding slate resulting from this competition as the basis for future years' awards.

Estimated Range of Awards: $150,000-$500,000 per year.

Estimated Average Size of Awards: $300,000 per year.

Estimated Number of Awards: 12-15.

Note: The Department is not bound by any estimates in this notice.

Project Period: Up to 48 months.

Full Text of Announcement

I. Funding Opportunity Description

Purpose of Program: Migrant Education Even Start Family Literacy program grants are intended to help break the cycle of poverty and illiteracy of migratory families by improving the educational opportunities of these families through the integration of early childhood education, adult literacy or adult basic education, and parenting education into a unified family literacy program. This program is implemented through cooperative activities that: build on high-quality existing community resources to create a new range of educational services for most-in-need migratory families; promote the academic achievement of migratory children and adults; assist migratory children and adults from low-income families to achieve to challenging State content standards and challenging State student performance standards; and use instructional programs based on scientifically based research on preventing and overcoming reading difficulties for children and adults. A description of the required fifteen program elements for which funds must be used under title I, part B, section 1235 of the Elementary and Secondary Education Act of 1965, as amended (ESEA), is included in the application package.

Priority: This notice includes one competitive preference priority and three invitational priorities. These priorities are for the combined FY 2003 and FY 2004 grant competition and any future awards made on the basis of the funding slate from this competition.

Competitive Preference Priority: In accordance with 34 CFR 75.105(b)(2)(ii), this priority is from section 75.225 of the Education Department General Administrative Regulations (EDGAR) that apply to this program (34 CFR 75.225). This priority is a competitive preference priority. Under 34 CFR 75.105 (c)(2)(i) we award an additional 5 points to an application that meets this priority.

This priority is:

Novice Applicant

The applicant must be a “novice applicant.” Under 34 CFR 75.225 a novice applicant is an applicant that has never received a grant or subgrant under the MEES program; has never been a participant in a group application, submitted in accordance with sections 75.127-75.129 of EDGAR, that received a grant under the MEES program; and has not had an active discretionary grant from the Federal Government in the five years before the deadline date for applications under the MEES program. (34 CFR 75.225.)

Invitational Priorities: These priorities are invitational priorities. Under 34 CFR 75.105(c)(1) we do not give an application that meets these invitational priorities a competitive or absolute preference over other applications.

These priorities are:

Invitational Priority 1—Partnerships To Improve School Readiness

The Secretary is especially interested in applications that would create Federal, State, and local partnerships to improve reading proficiency and advance English language acquisition so that migratory children enter elementary school with strong early reading skills.

Invitational Priority 2—Collaboration With Experienced MEES Projects

The Secretary is especially interested in applications that would build networks among novice applicants and experienced MEES projects that will leverage resources to eliminate disruptions in the education of participating families and engage migrant families wherever they move outside the project. Networks among experienced and novice projects increase the likelihood of maintaining the academic progress of migratory adults and children regardless of where migratory families travel to work.

Invitational Priority 3—Agricultural Employer Partnerships

The Secretary is especially interested in applications that would build networks with agricultural employers that will supplement resources available to develop English proficiency for migratory agricultural families with limited English or native-language literacy.

Program Authority: 20 U.S.C. 6381a(a)(1)(A).

Applicable Regulations: The Education Department General Administrative Regulations (EDGAR) in 34 CFR parts 74, 75, 77, 79, 80, 81, 82, 84, 85, 86, 97, 98, and 99.

Note: The regulations in 34 CFR Part 86 apply to institutions of higher education only.

II. Award Information

Type of Award: Discretionary grants.

Estimated Available Funds: $4,500,000. This is the combined estimate from both FY 2003 and FY 2004 funds. We are inviting applications at this time for new awards for both FY 2003 and for FY 2004 to make the most efficient use of competition resources. The Department may use the funding slate resulting from this competition as the basis for future years' awards.

Estimated Range of Awards: $150,000-$500,000 per year.

Estimated Average Size of Awards: $300,000 per year.

Estimated Number of Awards: 12-15.

Note: The Department is not bound by any estimates in this notice.

Project Period: Up to 48 months.

III. Eligibility Information

1. Eligible Applicants: Any entity is eligible to apply for a grant under the MEES Family Literacy program. For example, the following types of entities are eligible to apply: SEAs that administer migrant education programs; LEAs that have a high percentage of migratory students; non-profit community-based organizations that work with migratory families; and faith-based organizations.

2. Cost Sharing or Matching: See section 1234(b) of the ESEA. Matching costs requirements for the MEES program begin at 10 percent in the project's first year and increase incrementally as the project continues to receive Federal support. A project funded for a second cycle, years 5 through 8, must maintain a 50 percent cost share. A project funded for cycles beginning in year 9 must maintain a 65 percent cost share.

3. Other: Eligible MEES participants consist of migratory children and their parents as defined in 34 CFR 200.81 who also meet the conditions specified in section 1236(a) of the ESEA.

IV. Application and Submission Information

1. Address to Request Application Package: You may obtain an application package via Internet or from the ED Publication Publications Center (ED Pubs). To obtain a copy via Internet use the following address: http://www.ed.gov/pubs/edpubs.html. To obtain a copy from ED Pubs, write or call the following: ED Pubs, P.O. Box 1398, Jessup, MD 20794-1398. Telephone (toll free): 1-877-433-7827. FAX: (301) 470-1244. If you use a telecommunications device for the deaf (TDD), you may call the Federal Information Relay Service (FIRS) at 1-800-877-8339.

If you request an application from ED Pubs, be sure to identify this competition as follows: CFDA number 84.214A.

Individuals with disabilities may obtain a copy of the application package in an alternative format (e.g., Braille, large print, audiotape, or computer diskette) by contacting the program contact person listed under section VII of this notice.

2. Content and Form of Application Submission: Requirements concerning the content of an application, together with the forms you must submit, are in the application package for this program.

Page, Appendices, and other Limits: (1) The application narrative (Part III of the application) is where you, the applicant, address the selection criteria that reviewers use to evaluate your application. In addition, the budget narrative is where you provide an itemized budget breakdown, by project year, for each budget category listed in Sections A and B of Budget Form 524. You are encouraged to limit your application narrative (Part III of the application) to the equivalent of no more than 25 pages and limit the additional budget narrative to the equivalent of no more than four pages. Use the following standards for both the application and budget narratives:

• A “page” is 8.5″ x 11″, on one side only, with 1″ margins at the top, bottom, and both sides.

• Double space (no more than three lines per vertical inch) text in the application and budget narratives, including titles, headings, footnotes, quotations, references, and captions. However, you may single space information in tables, charts, or graphs in the application and budget narratives.

• Use a font that is either 12-point or larger or no smaller than 10 pitch (characters per inch). You may use other point fonts for any tables, charts, and graphs, but those tables charts, and graphs should be in a font size that is easily readable by the reviewers of your application.

• Any application narrative, table, chart, or graph is included in the overall narrative page limit. The budget narrative and Appendices are not part of this page limit.

(2) You are encouraged to limit the appendices to curriculum vitae or position descriptions of no more than five (5) people (including key contract personnel and consultants), and the endnote citations to no more than two (2) pages for the scientifically based reading research upon which your instructional programs are based.

(3) Additionally, please limit other application materials to the specific materials indicated in the application package, and do not include any video or other non-print materials.

3. Submission Dates and Times:

Applications Available: April 6, 2004.

Deadline for Transmittal of Applications: May 21, 2004. The dates and times for the transmittal of applications by mail or by hand (including a courier service or commercial carrier) are in the application package for this program.

We do not consider an application that does not comply with the deadline requirements.

Deadline for Intergovernmental Review: July 20, 2004.

4. Intergovernmental Review: This program is subject to Executive Order 12372 and the regulations in 34 CFR part 79. Information about Intergovernmental Review of Federal Programs under Executive Order 12372 is in the application package for this program.

5. Funding Restrictions: Recipients of a MEES grant may not use funds awarded under this competition for the indirect costs of a project, or claim indirect costs as part of the local project share. (Section 1234(b)(3), ESEA.) We reference regulations outlining additional funding restrictions in the Applicable Regulations section of this notice.

6. Other Submission Requirements: Instructions and requirements for the transmittal of applications by mail or by hand (including a courier service or commercial carrier) are in the application package for this program.

V. Application Review Information

Selection Criteria: The selection criteria for this program are in 34 CFR 75.210. The selection criteria are included in the application package.

VI. Award Administrative Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The Government Performance and Results Act (GPRA) directs Federal departments and agencies to improve the effectiveness of their programs by engaging in strategic planning, setting outcome-related goals for programs, and measuring program results against those goals. Program officials must develop performance measures for all of their grant programs to assess their performance and effectiveness. The Department has established a set of indicators to assess the effectiveness of the Even Start program, which MEES projects will use to measure increases in the (1) percentages and numbers of adults achieving significant learning gains on measures of literacy and mathematics, and percentages and numbers of limited English proficient (LEP) adults who achieve significant learning gains on measures of English language acquisition; (2) percentages and numbers of Even Start school-age parents who earn a high school diploma, and percentages and numbers of Even Start non-school-age parents who earn a high school diploma or a General Equivalency Diploma (GED); and (3) percentages and numbers of Even Start children entering kindergarten who achieve significant learning gains on measures of language development and reading readiness.

All grantees will be expected to submit, as part of an annual performance report, information documenting their progress with regard to these performance measures.

VII. Agency Contact

For Further Information Contact: DonnaMarie Marlow, U.S. Department of Education, 400 Maryland Avenue SW., room 3E313, Washington, DC 20202-6135. Telephone: (202) 260-2815, or by e-mail: DonnaMarie.Marlow@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: March 31, 2004.
Raymond Simon,
Assistant Secretary for Elementary and Secondary Education.

[FR Doc. 04-7796 Filed 4-5-04; 8:45 am]

BILLING CODE 4000-01-P